ENVIRONMENTAL PROTECTION AGENCY

40 CFR Part 62

[EPA-R08-OAR-2014-0811; FRL-9923-39-Region 8]

Promulgation of State Air Quality Implementation Plans for Designated Facilities and Pollutants: Colorado, Montana, North Dakota, South Dakota, Utah, and Wyoming; Negative Declarations; Control of Emissions From Existing Sewage Sludge Incineration Units

AGENCY: Environmental Protection Agency.

ACTION: Proposed rule.

SUMMARY: The Environmental Protection Agency (EPA) is proposing to publish negative declarations for sewage sludge incineration (SSI) units for the State of Colorado, the State of Montana, the State of North Dakota, the State of South Dakota, the State of Utah, and the State of Wyoming. Each state notified EPA in its negative declaration letter that there are no SSI units subject to the requirements of sections 111(d) and 129 of the Clean Air Act (CAA) currently operating within the jurisdictional boundaries of the state.

DATES: Written comments must be received on or before April 3, 2015.

ADDRESSES: Submit your comments, identified by Docket ID No. EPA-R08-OAR-2014-0811, by one of the following methods:

• http://www.regulations.gov. Follow the on-line instructions for submitting comments.

• Email: morrison.kendra@epa.gov.

• Fax: (303) 312-6064 (please alert the individual listed in the FOR FURTHER INFORMATION CONTACT section if you are faxing comments).

• Mail: Carl Daly, Director, Air Program, Environmental Protection Agency (EPA), Region 8, Mailcode 8P-AR, 1595 Wynkoop Street, Denver, Colorado 80202-1129.

• Hand Delivery: Carl Daly, Director, Air Program, Environmental Protection Agency (EPA), Region 8, Mailcode 8P-AR, 1595 Wynkoop Street, Denver, Colorado 80202-1129. Such deliveries are only accepted Monday through Friday, 8:00 a.m. to 4:30 p.m., excluding federal holidays. Special arrangements should be made for deliveries of boxed information.

Please see the direct final rule which is located in the Rules Section of this Federal Register for detailed instruction on how to submit comments.

FOR FURTHER INFORMATION CONTACT: Kendra Morrison, Air Program, 1595 Wynkoop Street, Denver, Colorado 80202-1129, 303-312-6145, morrison.kendra@epa.gov.

SUPPLEMENTARY INFORMATION: In the “Rules and Regulations” section of this Federal Register, EPA is publishing these negative declarations as a direct final rule without prior proposal because the Agency views this as a noncontroversial action and anticipates no adverse comments. A detailed rationale for publication is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment. See the information provided in the Direct Final action of the same title which is located in the Rules and Regulations Section of this Federal Register.

Authority: 42 U.S.C. 7401 et seq.

Dated: January 30, 2015.
Debra H. Thomas,
Acting Regional Administrator, Region 8.

[FR Doc. 2015-03921 Filed 2-26-15; 8:45 am]

BILLING CODE 6560-50-P